DEPARTMENT OF HEALTH AND HUMAN SERVICES

National Institutes of Health

The Science of Interoception and Its Roles in Nervous System Disorders

AGENCY: National Institutes of Health, HHS.

ACTION: Notice.

SUMMARY: The objectives of this workshop are to identify gaps in research related to the science of interoception, its role(s) in nervous system disorders, and to develop strategies and recommendations to facilitate the advancement of this area of research. The workshop will bring together expertise from diverse fields including basic neuroscience, psychology, physiology, and clinical research to deliberate two important dynamic connections—the connections between brain and body and the connections between basic research and human/clinical research. The primary focus areas for the workshop include: the neural circuitry underlying the dynamic interactions between the central and peripheral nervous systems; interoceptive processes in associated diseases and disorders; effect of modulating interoceptive processes for potential interventions/therapies; and development of technologies and methodologies to enhance interoceptive research.

DATES: The Meeting will be held on April 16-17, 2019, from 8:30 a.m. to 5:00 p.m. (ET).

ADDRESSES: Lister Hill Auditorium, NLM (Building 38A), NIH Main Campus, 8600 Rockville Pike, Bethesda, MD. This workshop will also be videocast.

FOR FURTHER INFORMATION CONTACT: For information concerning this meeting, see www.scgcorp.com/blueprintinteroc2019 or contract Dr. Wen Chen, Branch Chief and Program Director, Basic and Mechanistic Research, Division of Extramural Research, National Center for Complementary and Integrative Health, 6707 Democracy Boulevard, Suite 401, Bethesda, MD 20892, telephone: 301-451-3989; email: when.chen2@nih.gov.

SUPPLEMENTARY INFORMATION: This workshop is sponsored by the NIH Blueprint for Neuroscience Research. It is led by the National Center for Complementary and Integrative Health (NCCIH) and the NIH Office of Behavioral and Social Sciences Research (OBSSR) in collaboration with the National Institute on Alcohol Abuse and Alcoholism (NIAAA), National Institute of Dental and Craniofacial Research (NIDCR), National Institute of Neurological Disorders and Stroke (NINDS), National Institute of Mental Health (NIMH), National Institute on Aging (NIA), National Institute on Drug Abuse (NIDA), National Institute of Diabetes and Digestive and Kidney Diseases (NIDDK), National Cancer Institute (NCI), and Eunice Kennedy Shriver National Institute of Child Health and Human Development (NICHD). The workshop is free and open to the public. If you are interested in interacting with participants and engaging in discussions during the meeting, you are welcome to join us in person. Alternatively, the workshop will be livestreamed, and the video will be archived. You can register for this meeting at www.scgcorp.com/blueprintinteroc2019.

Dated: March 18, 2019.
Helene Langevin,
Director, National Center for Complementary and Integrative Health, National Institutes of Health.

[FR Doc. 2019-05492 Filed 3-21-19; 8:45 am]

BILLING CODE 4140-01-P